DEPARTMENT OF JUSTICE

Antitrust Division

Notice Pursuant to the National Cooperative Research and Production Act of 1993—Expeditionary Missions Consortium—Crane

Notice is hereby given that, on June 14, 2024, pursuant to section 6(a) of the National Cooperative Research and Production Act of 1993, 15 U.S.C. 4301 et seq. (“the Act”), Expeditionary Missions Consortium—Crane (“EMC²”) has filed written notifications simultaneously with the Attorney General and the Federal Trade Commission disclosing changes in its membership. The notifications were filed for the purpose of extending the Act's provisions limiting the recovery of antitrust plaintiffs to actual damages under specified circumstances. Specifically, Accurate Energetic Systems LLC, McEwen, TN; Accenture Federal Services LLC, Arlington, VA; Advanced Ground Information Systems, Inc., Jupiter, FL; ANDRO Computational Solutions LLC, Rome, NY; Anduril Industries, Inc., Costa Mesa, CA; Applied Research in Acoustics LLC dba ARiA, Madison, VA; Axient LLC, Huntsville, AL; Azure Summit Technology, Inc., Fairfax, VA; BBN Technologies Corp (A Business of RTX), Cambridge, MA; Blackrock Strategy LLC, Huntsville, AL; Cenith Innovations LLC, Sacramento, CA; Chesapeake Technology International Corp, California, MD; ColdQuanta, Inc. dba Infleqtion, Boulder, CO; Concentris Systems, Alexandria, VA; Consolidated Resource Imaging LLC, Grand Rapids, MI; Covan Group LLC, Fredericksburg, VA; Defense Industry Advisors LLC, Dayton, OH; Deloitte Consulting LLP, Arlington, VA; Domenix, Chantilly, VA; DroneShield LLC, Warrenton, VA; Edge Case Research, Inc., Pittsburg, PA; Flex Force Enterprises, Inc., Portland, OR; Fortem Technologies, Pleasant Grove, UT; General Atomics Aeronautical Systems, Inc., Poway, CA; General Dynamics Ordnance and Tactical Systems, Inc., St. Petersburg, FL; General Technical Services LLC, Wall Township, NJ; GrammaTech, Ithaca, NY; Hanley Industries, Inc. dba Riverbend Energetics, Alton, IL; Hexagon US Federal, Huntsville, AL; HII Mission Technologies Corp, McLean, VA; HII Unmanned Systems, Inc., Pocasset, MA; iC-1 Solutions LLC, Reston, VA; ICR, Inc., Aurora, CO; Idaho Scientific LLC, Boise, ID; IEC Infrared Systems LLC, Middleburg Heights, OH; Illumination Works LLC, Beavercreek, OH; Indigo Industries LLC, Greenwood, IN; Invariant Corporation, Huntsville, AL; IT Mentor Group, Inc., Poway, CA; Knexus Research LLC, Oxon Hill, MD; L3 Fuzing And Ordnance System, Inc., Cincinnati, OH; L3Harris ForceX, Inc., Nashville, TN; Liteye Systems, Inc., Centennial, CO; ManTech Advanced Systems International, Inc., Herndon, VA; Marvin Engineering Co., Inc., Inglewood, CA; Monterey Technologies, Inc., Park City, UT; Motorola Solutions, Inc., Chicago, IL; Nokia of America Corporation, Murray Hill, NJ; Numerica Corporation, Fort Collins, CO; Oklahoma State University Oklahoma Aerospace Institute for Education and Research, Stillwater, OK; One World Clean Energy, Inc., Louisville, KY; Optics 1, Inc., Bedford, NH; Parametric Solutions, Inc., Jupiter, FL; Physical Sciences, Inc., Andover, MA; Practical Energetics Research, Inc., Huntsville, AL; Pratt Miller Engineering and Fabrication, New Hudson, MI; Quantum Research International, Inc., Huntsville, AL; Qynergy Corporation, Albuquerque, NM; Radiance Technologies, Inc., Huntsville, AL; Rolls Royce North America, Indianapolis, IN; Saronic Technologies, Inc., Austin, TX; Science Applications International Corporation, Crane, IN; Scientia LLC, Bloomington, IN; Scientific Research Corporation, Atlanta, GA; Shared Spectrum Company, Vienna, VA; Shield AI, Inc., San Diego, CA; Simulation Technologies, Inc., Huntsville, AL; Smart Information Flow Technologies LLC dba SIFT LLC, Minneapolis, MN; SRC, Inc., North Syracuse, NY; SRI, Menlo Park, CA; Stellant Systems, Williamsport, PA; Swarmbotics AI, Inc., Scottsdale, AZ; Teledyne FLIR LLC, Wilsonville, OR; TrellisWare Technologies, Inc., San Diego, CA; Triton Systems, Inc., Chelmsford, MA; University of Notre Dame du Lac, Notre Dame, IN; Utah State University Space Dynamics Laboratory, North Logan, UT; and VT Milcom, Virginia Beach, VA, have been added as parties to this venture.

No other changes have been made in either the membership or planned activity of the group research project. Membership in this group research project remains open, and EMC² intends to file additional written notifications disclosing all changes in membership.

On January 11, 2024, EMC² filed its original notification pursuant to section 6(a) of the Act. The Department of Justice published a notice in the Federal Register pursuant to section 6(b) of the Act on March 13, 2024 (89 FR 18439).

Suzanne Morris,
Deputy Director Civil Enforcement Operations, Antitrust Division.

[FR Doc. 2024-20744 Filed 9-11-24; 8:45 am]

BILLING CODE P